INTERNATIONAL TRADE COMMISSION

[Investigation No. 332-456]

Express Delivery Services: Competitive Conditions Facing U.S.-Based Firms in Foreign Markets

AGENCY: United States International Trade Commission.

ACTION: Institution of investigation and scheduling of hearing.

SUMMARY: Following receipt of a request on July 1, 2003, from the House Committee on Ways and Means, the Commission instituted investigation No. 332-456, Express Delivery Services: Competitive Conditions Facing U.S.-based Firms in Foreign Markets, under section 332(g) of the Tariff Act of 1930 (19 U.S.C. 1332(g)).

Background: As requested by the Committee, the Commission will investigate and provide a report on the current competitive conditions facing U.S.-based express delivery service suppliers in foreign markets. Specifically, the Commission will (1) examine the composition of the global industry, major market participants, and factors driving change, including regulatory reform, in major markets; (2) examine the extent to which competition among express delivery service suppliers in foreign markets may be affected by government-sanctioned monopolies competing in those markets; and (3) identify, to the extent possible, additional trade impediments encountered by U.S.-based express delivery service suppliers in foreign markets. For the purposes of its report, the Commission will define express delivery services as the expedited collection, transport and delivery of documents, printed matter, parcels and/or other goods, while tracking the location of, and maintaining control over, such items throughout the supply of the service; and services provided in connection therewith, such as customs facilitation and logistics services.

The Committee requested that the Commission furnish its report by April 1, 2004, and that the Commission make the report available to the public in its entirety.

Effective Date: August 1, 2003.

FOR FURTHER INFORMATION CONTACT: (1) Project Leader, Michael Nunes (202-205-3462 or mnunes@usitc.gov); (2) Deputy Project Leader, Joann Tortorice (202-205-3032 or jtortorice@usitc.gov) (3) Chief, Services and Investment Division, Richard Brown (202-205-3438 or rbrown@usitc.gov).

The above persons are in the Commission's Office of Industries. For information on legal aspects of the investigation, contact William Gearhart of the Commission's Office of the General Counsel at 202-205-3091 or wgearhart@usitc.gov.

Public Hearing

A public hearing in connection with this investigation is scheduled to begin at 9:30 a.m. on November 5, 2003, at the U.S. International Trade Commission Building, 500 E Street SW., Washington, DC. All persons have the right to appear by counsel or in person, to present information, and to be heard. Persons wishing to appear at the public hearing should file a letter with the Secretary, United States International Trade Commission, 500 E St., SW., Washington, DC 20436, not later than the close of business (5:15 p.m.) on October 22, 2003. In addition, persons appearing should file prehearing briefs (original and 14 copies) with the Secretary by the close of business on October 24, 2003. Posthearing briefs should be filed with the Secretary by the close of business on November 19, 2003. In the event that no requests to appear at the hearing are received by the close of business on October 22, 2003, the hearing will be canceled. Any person interested in attending the hearing as an observer or non-participant may call the Secretary to the Commission (202-205-1816) after October 22, 2003 to determine whether the hearing will be held.

Written Submissions

In lieu of or in addition to appearing at the public hearing, interested persons are invited to submit written statements concerning the investigation. Written statements should be received by the close of business on November 19, 2003. Commercial or financial information which a submitter desires the Commission to treat as confidential must be submitted on separate sheets of paper, each clearly marked “Confidential Business Information” at the top. All submissions requesting confidential treatment must conform with the requirements of § 201.6 of the Commission's rules of practice and procedure (19 CFR 201.6). All written submissions, except for confidential business information, will be made available for inspection by interested persons. The Committee has requested that the report not include any confidential business information; the Commission will not include confidential business information in the report it sends to the Committee. All submissions should be addressed to the Secretary at the Commission's office in Washington, DC. The Commission's rules do not authorize filing of submissions with the Secretary by facsimile or electronic means, except to the extent permitted by § 201.8 of the Commission's rules (19 CFR 201.18) (see Handbook for Electronic Filing Procedures, ftp://FTP.usitc.gov/pub/reports/electronic_filing_handbook.pdf). The public record for this investigation may be viewed on the Commission's electronic docket (EDIS) at http://edis.usitc.gov. Hearing-impaired individuals are advised that information on this matter can be obtained by contacting the Commission's TDD terminal on (202) 205-1810.

Issued: August 1, 2003.
By order of the Commission.
Marilyn R. Abbott,
Secretary.

[FR Doc. 03-20140 Filed 8-6-03; 8:45 am]

BILLING CODE 7020-02-P